DEPARTMENT OF LABOR

Employment and Training Administration

[TA-W-55,594]

Bosch-Rexroth Corporation, Mobile Hydraulics Division, Wooster, OH; Dismissal of Application for Reconsideration

Pursuant to 29 CFR 90.18(C) an application for administrative reconsideration was filed with the Director of the Division of Trade Adjustment Assistance for workers at Bosch-Rexroth Corporation, Mobile Hydraulics Division, Wooster, Ohio. The application contained no new substantial information which would bear importantly on the Department's determination. Therefore, dismissal of the application was issued.

TA-W-55,594; Bosch-Rexroth Corporation, Mobile Hydraulics Division, Wooster, Ohio (January 25, 2005).

Signed at Washington, DC this 31st day of January 2005.
Timothy Sullivan,
Director, Division of Trade Adjustment Assistance.

[FR Doc. E5-454 Filed 2-4-05; 8:45 am]

BILLING CODE 4510-30-P